DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 20, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Emergency Grain Storage Facility Assistance Program (EGSFP).

OMB Control Number: 0560-0315.

Summary of Collection: FSA is providing assistance to producers or groups of producers in their efforts to build and acquire new or used, permanent or portable on-farm grain storage capacity, drying and handling equipment. FSA is administering the EGSFP and addressing the emergency on-farm grain storage, drying and handling needs, while mitigating supply chain disruption. The financial assistance for the producers is covered in the sections 5(b), (d), and (e) of the Commodity Credit Cooperation (CCC) Charter Act (15 U.S.C. 714c(b), (d), and (e)), in the amount of 80 million to be used to partially compensate producers for on-going market disruptions and assist with the transition to a more orderly marketing system.

Need and Use of the Information: The information submitted by producers is used by FSA to determine eligibility and distribute payments to eligible producers under EGSFP program.

Description of Respondents: Farms.

Number of Respondents: 9,350.

Frequency of Responses: Reporting: Other (once).

Total Burden Hours: 4,244.

Ruth Brown,
Departmental Information Collection Clearance Officer.

[FR Doc. 2023-17893 Filed 8-18-23; 8:45 am]

BILLING CODE 3410-05-P